DEPARTMENT OF JUSTICE

Drug Enforcement Administration

[Docket No. DEA-372]

Exempt Chemical Preparations Under the Controlled Substances Act

AGENCY: Drug Enforcement Administration, Department of Justice.

ACTION: Order with opportunity for comment.

SUMMARY: The applications for exempt chemical preparations received by the Drug Enforcement Administration (DEA) between July 1, 2021, and December 31, 2021, as listed below, were accepted for filing and have been approved or denied as indicated.

DATES: Interested persons may file written comments on this order in accordance with 21 CFR 1308.23(e). Electronic comments must be submitted, and written comments must be postmarked, on or before June 21, 2022. Commenters should be aware that the electronic Federal Docket Management System will not accept comments after 11:59 p.m. Eastern Time on the last day of the comment period.

ADDRESSES: To ensure proper handling of comments, please reference “Docket No. DEA-372” on all correspondence, including any attachments.

Electronic comments: DEA encourages that all comments be submitted through the Federal eRulemaking Portal, which provides the ability to type short comments directly into the comment field on the web page or to attach a file for lengthier comments. Please go to http://www.regulations.gov and follow the online instructions at that site for submitting comments. Upon completion of your submission you will receive a Comment Tracking Number for your comment. Please be aware that submitted comments are not instantaneously available for public view on Regulations.gov. If you have received a comment tracking number, your comment has been successfully submitted and there is no need to resubmit the same comment.

Paper comments: Paper comments that duplicate the electronic submission are not necessary and are discouraged. Should you wish to mail a comment in lieu of an electronic comment, it should be sent via regular or express mail to: Drug Enforcement Administration, Attention: DEA Federal Register Representative/DRW, 8701 Morrissette Drive, Springfield, Virginia 22152.

FOR FURTHER INFORMATION CONTACT: Terrence L. Boos, Ph.D., Diversion Control Division, Drug Enforcement Administration; Mailing Address: 8701 Morrissette Drive, Springfield, Virginia 22152; Telephone: (571) 362-8201.

SUPPLEMENTARY INFORMATION:

Posting of Public Comments

Please note that all comments received are considered part of the public record and made available for public inspection online at http://www.regulations.gov and in the DEA's public docket. Such information includes personal identifying information (such as your name, address, etc.) voluntarily submitted by the commenter. The Freedom of Information Act applies to all comments received.

If you want to submit personal identifying information (such as your name, address, etc.) as part of your comment, but do not want it to be posted online or made available in the public docket, you must include the phrase “PERSONAL IDENTIFYING INFORMATION” in the first paragraph of your comment. You must also place all the personal identifying information you do not want posted online or made available in the public docket in the first paragraph of your comment and identify what information you want redacted.

If you want to submit confidential business information as part of your comment, but do not want it to be posted online or made available in the public docket, you must include the phrase “CONFIDENTIAL BUSINESS INFORMATION” in the first paragraph of your comment. You must also prominently identify confidential business information to be redacted within the comment.

Comments containing personal identifying information and confidential business information identified as directed above will generally be made publicly available in redacted form. If a comment has so much confidential business information that it cannot be effectively redacted, all or part of that comment may not be made publicly available. Comments posted to http://www.regulations.gov may include any personal identifying information (such as name, address, and phone number) included in the text of your electronic submission that is not identified as directed above as confidential.

An electronic copy of this document is available at http://www.regulations.gov for easy reference.

Legal Authority

Section 201 of the Controlled Substances Act (CSA) (21 U.S.C. 811) authorizes the Attorney General, by regulation, to exempt from certain provisions of the CSA certain compounds, mixtures, or preparations containing a controlled substance, if he finds that such compounds, mixtures, or preparations meet the requirements detailed in 21 U.S.C. 811(g)(3)(B).¹ The Drug Enforcement Administration (DEA) regulations at 21 CFR 1308.23 and 1308.24 further detail the criteria by which the DEA Deputy Assistant Administrator may exempt a chemical preparation or mixture from certain provisions of the CSA. The Deputy Assistant Administrator may, pursuant to 21 CFR 1308.23(f), modify or revoke the criteria by which exemptions are granted and modify the scope of exemptions at any time.

¹ This authority has been delegated from the Attorney General to the DEA Administrator by 28 CFR 0.100, and subsequently redelegated to the Deputy Assistant Administrator pursuant to 28 CFR 0.104 and Section 7 of the appendix to subpart R of part 0.

Exempt Chemical Preparation Applications Submitted Between July 1, 2021, and December 31, 2021

The Deputy Assistant Administrator received applications between July 1, 2021, and December 31, 2021, requesting exempt chemical preparation status detailed in 21 CFR 1308.23. Pursuant to the criteria stated in 21 U.S.C. 811(g)(3)(B) and in 21 CFR 1308.23, the Deputy Assistant Administrator has found that each of the compounds, mixtures, and preparations described in Chart I below is intended for laboratory, industrial, educational, or special research purposes and not for general administration to a human being or animal and either: (1) Contains no narcotic controlled substance and is packaged in such a form or concentration that the packaged quantity does not present any significant potential for abuse; or (2) contains either a narcotic or non-narcotic controlled substance and one or more adulterating or denaturing agents in such a manner, combination, quantity, proportion, or concentration that the preparation or mixture does not present any potential for abuse and, if the preparation or mixture contains a narcotic controlled substance, is formulated in such a manner that it incorporates methods of denaturing or other means so that the preparation or mixture is not liable to be abused or have ill effects, if abused, and so that the narcotic substance cannot in practice be removed.

Accordingly, pursuant to 21 U.S.C. 811(g)(3)(B), 21 CFR 1308.23, and 21 CFR 1308.24, the Deputy Assistant Administrator has determined that each of the chemical preparations or mixtures generally described in Chart I below and specifically described in the application materials received by DEA is exempt, to the extent described in 21 CFR 1308.24, from application of sections 302, 303, 305, 306, 307, 308, 309, 1002, 1003, and 1004 (21 U.S.C. 822-823, 825-829, and 952-954) of the CSA, and 21 CFR 1301.74, as of the date that was provided in the approval letters to the individual requesters.

Scope of Approval

The exemptions are applicable only to the precise preparation or mixture described in the application submitted to DEA in the form(s) listed in this order and only for those above mentioned sections of the CSA and the CFR. In accordance with 21 CFR 1308.24(h), any change in the quantitative or qualitative composition of the preparation or mixture, or change in the trade name or other designation of the preparation or mixture after the date of application requires a new application. The requirements set forth in 21 CFR 1308.24(b)-(e) apply to the exempted materials. In accordance with 21 CFR 1308.24(g), DEA may prescribe requirements other than those set forth in 21 CFR 1308.24(b)-(e) on a case-by-case basis for materials exempted in bulk quantities. Accordingly, in order to limit opportunity for diversion from the larger bulk quantities, DEA has determined that each of the exempted bulk products listed in this order may only be used in-house by the manufacturer, and may not be distributed for any purpose, or transported to other facilities.

Additional exempt chemical preparation requests received between July 1, 2021, and December 31, 2021, and not otherwise referenced in this order, may remain under consideration until DEA receives additional information required, pursuant to 21 CFR 1308.23(d), as detailed in separate correspondence to individual requesters. DEA's order on such requests will be communicated to the public in a future Federal Register publication.

DEA also notes that these exemptions are limited to exemption from only those sections of the CSA and the CFR that are specifically identified in 21 CFR 1308.24(a). All other requirements of the CSA and the CFR apply, including registration as an importer as required by 21 U.S.C. 957.

Chart I
Supplier | Product name | Form | Application date
Absolute Standards, Inc | (+/−)-MDA-D5, 100 ug/ml, in Methanol | Glass ampoule: 1 ml | 10/21/2021
Absolute Standards, Inc | (+/−)-Methamphetamine-D9, 100 ug/ml, in Methanol | Glass ampoule: 1 ml | 10/21/2021
Absolute Standards, Inc | 4-Androstene-3,17-dione, 1000 ug/ml, in Methanol | Glass ampoule: 1 ml | 10/21/2021
Absolute Standards, Inc | 6-Acetylmorphine, 100 ug/ml, in Methanol | Glass ampoule: 1 mL | 10/21/2021
Absolute Standards, Inc | 6-Acetylmorphine-D3, 100 ug/ml, in Methanol | Glass ampoule: 1 mL | 10/21/2021
Absolute Standards, Inc | Amfepramone, 100 ug/ml, in Acetonitrile:Water [1:1] | Glass ampoule: 1 mL | 10/21/2021
Absolute Standards, Inc | Amfepramone-D10, 100 ug/ml, in 1% lM HCI Methanol | Glass ampoule: 1 mL | 10/21/2021
Absolute Standards, Inc | Anhydroecgonine methyl ester, 100 ug/ml, in Acetonitrile | Glass ampoule: 1 mL | 10/21/2021
Absolute Standards, Inc | Barbital, 100 ug/ml, in Methanol | Glass ampoule: 1 mL | 10/21/2021
Absolute Standards, Inc | Benzoylecgonine-D3, 100 ug/ml, in Methanol | Glass ampoule: 1 mL | 10/21/2021
Absolute Standards, Inc | Chlordiazepoxide, 100 ug/ml, in Acetonitrile | Glass ampoule: 1 mL | 10/21/2021
Absolute Standards, Inc | Cocaethylene, 100 ug/ml, in Acetonitrile | Glass ampoule: 1 mL | 10/21/2021
Absolute Standards, Inc | Cocaethylene-D3, 100 ug/ml, in Acetonitrile | Glass ampoule: 1 mL | 10/21/2021
Absolute Standards, Inc | Codeine-D3, 100 ug/ml, in Ethanol | Glass ampoule: 1 mL | 10/21/2021
Absolute Standards, Inc | Dihydrotestosterone, 1000 ug/ml, in Methanol | Glass ampoule: 1 mL | 10/21/2021
Absolute Standards, Inc | Ecgonine methyl ester, 1000 ug/ml, in Methanol | Glass ampoule: 1 mL | 10/21/2021
Absolute Standards, Inc | Fenproporex, 100 ug/ml, in Methanol | Glass ampoule: 1 mL | 10/21/2021
Absolute Standards, Inc | Fenproporex-D5, 100 ug/ml, in Methanol | Glass ampoule: 1 mL | 10/21/2021
Absolute Standards, Inc | Fentanyl, 100 ug/ml, in Methanol | Glass ampoule: 1 mL | 10/21/2021
Absolute Standards, Inc | ISO 17025 Calibrator—Level 0, ≥500 ng/ml, in Methanol | Glass ampoule: 1 mL | 10/21/2021
Absolute Standards, Inc | ISO 17025 Calibrator—Level 3, ≥5000 ng/ml, In Methanol | Glass ampoule: 1 mL | 10/21/2021
Absolute Standards, Inc | ISO 17025 Calibrator—Level 4, ≥10 ng/ml, in Methanol | Glass ampoule: 1 mL | 10/21/2021
Absolute Standards, Inc | ISO 17025 Calibrator—Level 5, ≥20 ug/ml, in Methanol | Glass ampoule: 1 mL | 10/21/2021
Absolute Standards, Inc | ISO 17025 Calibrator • Level 1, ≥1000 ng/ml, in Methanol | Glass ampoule: 1 mL | 10/21/2021
Absolute Standards, Inc | ISO 17025 Calibrator • Level 2, ≥2500 ng/ml, in Methanol | Glass ampoule: 1 mL | 10/21/2021
Absolute Standards, Inc | ISO 17043 Internal Standard, ≥3000 ng/ml, in Methanol | Glass ampoule: 5 ml | 10/21/2021
Absolute Standards, Inc | ISO G34 calibrator Spike Solution Rev 1, ≥50 ng/ml, in Methanol | Glass ampoule: 1 mL | 10/21/2021
Absolute Standards, Inc | ISO G34 Control Spike High Rev-1, ≥7000 ng/ml, in Methanol | Glass ampoule: 1 mL | 10/21/2021
Absolute Standards, Inc | ISO G34 Control Spike Low Rev-1, ≥4000 ng/ml, in Methanol | Glass ampoule: 1 mL | 10/21/2021
Absolute Standards, Inc | JWH-018, 100 ug/ml, in Methanol | Glass ampoule: 1 mL | 10/21/2021
Absolute Standards, Inc | JWH-018-d9, 100 ug/ml, in Methanol | Glass ampoule: 1 mL | 10/21/2021
Absolute Standards, Inc | Ketamine-d4, 100 ug/ml, in Methanol | Glass ampoule: 1 mL | 10/21/2021
Absolute Standards, Inc | Mazindol, 100 ug/ml, in Methanol | Glass ampoule: 1 mL | 10/21/2021
Absolute Standards, Inc | Mazindol-D4, 100 ug/ml, in Methanol | Glass ampoule: 1 mL | 10/21/2021
Absolute Standards, Inc | Morphine, 100 ug/ml, in Methanol | Glass ampoule: 1 mL | 10/21/2021
Absolute Standards, Inc | Morphine-D3, 100 ug/ml, in Methanol | Glass ampoule: 1 mL | 10/21/2021
Absolute Standards, Inc | Norcocaine, 100 ug/ml, in Acetonitrile | Glass ampoule: 1 mL | 10/21/2021
Absolute Standards, Inc | Norcocaine-D3, 100 ug/ml, in Acetonitrile | Glass ampoule: 1 mL | 10/21/2021
Absolute Standards, Inc | Paraldehyde, 1000 ug/ml, in Water | Glass ampoule: 1 mL | 10/21/2021
Absolute Standards, Inc | Phencyclidine, 100 ug/ml, in Methanol | Glass ampoule: 1 mL | 10/21/2021
Absolute Standards, Inc | Pregabalin-d6, 100 ug/ml, in Methanol | Glass ampoule: 1 mL | 10/21/2021
Absolute Standards, Inc | Psilocybin, 100 ug/ml, in Acetonitrile.:Water [1:1] | Glass ampoule: 1 mL | 10/21/2021
Absolute Standards, Inc | Psilocybin, 100 ug/ml, in Methanol | Glass ampoule: 1 mL | 10/21/2021
Absolute Standards, Inc | THC-O-Acetate, 100 ug/ml, in Methanol | Glass ampoule: 1 mL | 10/21/2021
Absolute Standards, Inc | THC-O-Acetate, 1000 ug/ml, in Methanol | Glass ampoule: 1 mL | 10/21/2021
Absolute Standards, Inc | WS Chloral hydrate, 4-30 ug/ml, in Acetone | Glass ampoule: 2 ml | 10/21/2021
Absolute Standards, Inc | WS Chloral hydrate, 4-30 ug/ml, in MTBE | Glass ampoule: 2 ml | 10/21/2021
Audit MicroControls, Inc | Linearity FD Immunoassay | Kit: 10 vials; 5 mL each | 8/23/2021
Audit MicroControls, Inc | Linearity FD Immunoassay for Abbott Systems | Kit: 10 vials; 5 mL each | 7/19/2021
Audit MicroControls, Inc | Linearity FD Immunoassay for Abbott Systems Level A | Glass vial: 5 mL | 7/19/2021
Audit MicroControls, Inc | Linearity FD Immunoassay for Abbott Systems Level B | Glass vial: 5 mL | 7/19/2021
Audit MicroControls, Inc | Linearity FD Immunoassay for Abbott Systems Level C | Glass vial: 5 mL | 7/19/2021
Audit MicroControls, Inc | Linearity FD Immunoassay for Abbott Systems Level D | Glass vial: 5 mL | 7/19/2021
Audit MicroControls, Inc | Linearity FD Immunoassay for Abbott Systems Level E | Glass vial: 5 mL | 7/19/2021
Audit MicroControls, Inc | Linearity FLQ Fertility Siemens Atellica/Centaur | Kit: 10 vials; 2 mL each | 8/18/2021
Audit MicroControls, Inc | Linearity FLQ Fertility Siemens Atellica/Centaur, Set 2 Level A | Glass vial: 2 mL | 8/18/2021
Audit MicroControls, Inc | Linearity FLQ Fertility Siemens Atellica/Centaur, Set 2 Level B | Glass vial: 2 mL | 8/18/2021
Audit MicroControls, Inc | Linearity FLQ Fertility Siemens Atellica/Centaur, Set 2 Level C | Glass vial: 2 mL | 8/18/2021
Audit MicroControls, Inc | Linearity FLQ Fertility Siemens Atellica/Centaur, Set 2 Level D | Glass vial: 2 mL | 8/18/2021
Audit MicroControls, Inc | Linearity FLQ Fertility Siemens Atellica/Centaur, Set 2 Level E | Glass vial: 2 mL | 8/18/2021
Cayman Chemical Compan | (±)-cis-Δ9-THC (CRM) 1 mg/mL in Acetonitrile | Glass Ampule: 1 mL | 9/7/2021
Cayman Chemical Company | (±)-cis-Δ9-THC (CRM) 1 mg/mL in Methanol | Glass Ampule: 1 mL | 9/7/2021
Cayman Chemical Company | (±)-cis-Δ9-THC (CRM) 100 μg/ml in Acetonitrile | Glass Ampule: 1 mL | 9/7/2021
Cayman Chemical Company | (±)-cis-Δ9-THC (CRM) 100 μg/ml in Methanol | Glass Ampule: 1 mL | 9/7/2021
Cayman Chemical Company | 3-trifluoromethyl-N-Ethylamphetamine (hydrochloride) (exempt preparation) | Glass ampule: 1.0 mL | 10/7/2021
Cayman Chemical Company | 3-trifluoromethyl-N-Ethylamphetamine (hydrochloride) (exempt preparation) | Glass ampule: 0.5 mL | 10/7/2021
Cayman Chemical Company | 4′-methyl Fentanyl (hydrochloride) (exempt preparation) | Glass ampule: 0.5 mL | 10/7/2021
Cayman Chemical Company | 4-methyl Fentanyl (hydrochloride) (exempt preparation) | Glass ampule: 0.5 mL | 10/7/2021
Cayman Chemical Company | Custom Phytocannabinoid Mixture (CRM)—Adams Independent Testing | Glass ampule: 0.5 mL | 10/7/2021
Cayman Chemical Company | Custom Phytocannabinoid Mixture (CRM)—Adams Independent Testing | Glass ampule: 1.0 mL | 10/7/2021
Cayman Chemical Company | Custom Phytocannabinoid Mixture (CRM)—Adams Independent Testing | Glass ampule: 1.0 mL | 10/7/2021
Cayman Chemical Company | LSD (CRM) 25 μg/ml in Acetonitrile | Glass Ampule: 1 mL | 9/7/2021
Cayman Chemical Company | LSD (CRM) 50 μg/ml in Acetonitrile | Glass Ampule: 1 mL | 9/7/2021
Cayman Chemical Company | meta-Methylfentanyl (hydrochloride) (exempt preparation) | Glass ampule: 0.5 mL | 10/7/2021
Cayman Chemical Company | N-methyl Tryptamine (CRM) 1 mg/mL in Acetonitrile | Glass Ampule: 1 mL | 9/7/2021
Cayman Chemical Company | N-methyl Tryptamine (CRM) 1 mg/mL in Methanol | Glass Ampule: 1 mL | 9/7/2021
Cayman Chemical Company | N-methyl Tryptamine (CRM) 100 μg/ml in Acetonitrile | Glass Ampule: 1 mL | 9/7/2021
Cayman Chemical Company | N-methyl Tryptamine (CRM) 100 μg/ml in Methanol | Glass Ampule: 1 mL | 9/7/2021
Cayman Chemical Company | ortho-Methylfentanyl (hydrochloride) (exempt preparation) | Glass ampule: 1.0 mL | 10/7/2021
Cayman Chemical Company | para-Chlorofentanyl (hydrochloride) (exempt preparation) | Glass ampule: 1.0 mL | 10/7/2021
Cayman Chemical Company | Δ8-THC Acetate (CRM) 1 mg/mL in Acetonitrile | Glass Ampule: 1 mL | 9/7/2021
Cayman Chemical Company | Δ8-THC Acetate (CRM) 1 mg/mL in Methanol | Glass Ampule: 1 mL | 9/7/2021
Cayman Chemical Company | Δ8-THC Acetate (CRM) 100 μg/ml in Acetonitrile | Glass Ampule: 1 mL | 9/7/2021
Cayman Chemical Company | Δ8-THC Acetate (CRM) 100 μg/ml in Methanol | Glass Ampule: 1 mL | 9/7/2021
Cayman Chemical Company | Δ8-THC Acetate-d9 (CRM) 1 mg/mL in Methanol | Glass Ampule: 1 mL | 9/7/2021
Cayman Chemical Company | Δ8-THC Acetate-d9 (CRM) 100 μg/ml in Acetonitrile | Glass Ampule: 1 mL | 9/7/2021
Cayman Chemical Company | Δ8-THC Acetate-d9 (CRM) 100 μg/ml in Methanol | Glass Ampule: 1 mL | 9/7/2021
Cayman Chemical Company | Δ8-THCV (CRM) 1 mg/mL in Acetonitrile | Glass Ampule: 1 mL | 9/7/2021
Cayman Chemical Company | Δ8-THCV (CRM) 1 mg/mL in Methanol | Glass Ampule: 1 mL | 9/7/2021
Cayman Chemical Company | Δ8-THCV (CRM) 100 μg/ml in Acetonitrile | Glass Ampule: 1 mL | 9/7/2021
Cayman Chemical Company | Δ8-THCV (CRM) 100 μg/ml in Methanol | Glass Ampule: 1 mL | 9/7/2021
Cayman Chemical Company | Δ9-THCO (CRM) 1 mg/mL in Acetonitrile | Glass Ampule: 1 mL | 9/7/2021
Cayman Chemical Company | Δ9-THCO (CRM) 1 mg/mL in Methanol | Glass Ampule: 1 mL | 9/7/2021
Cayman Chemical Company | Δ9-THCO (CRM) 100 μg/ml in Acetonitrile | Glass Ampule: 1 mL | 9/7/2021
Cayman Chemical Company | Δ9-THCO (CRM) 100 μg/ml in Methanol | Glass Ampule: 1 mL | 9/7/2021
Cayman Chemical Company | Δ9-THCOA-A (CRM) 1 mg/mL in Acetonitrile | Glass Ampule: 1 mL | 9/7/2021
Cayman Chemical Company | Δ9-THCOA-A (CRM) 100 μg/ml in Acetonitrile | Glass Ampule: 1 mL | 9/7/2021
Cerilliant Corporation | PMMA HCl | Glass ampule: 1 mL | 7/23/2021
Cerilliant Corporation | Tetrahydrocannabiphorol (THCP) | Glass Ampule: 1 mL | 8/30/2021
College of American Pathologists | 2022 NOB-01 | Amber Vial: 15 mL | 8/4/2021
College of American Pathologists | 2022 NOB-02 | Amber Vial: 15 mL | 8/4/2021
College of American Pathologists | 2022 NOB-03 | Amber Vial: 15 mL | 8/4/2021
College of American Pathologists | 2022 NOB-04 | Amber Vial: 15 mL | 8/4/2021
College of American Pathologists | 2022 NOB-05 | Amber Vial: 15 mL | 8/4/2021
College of American Pathologists | 2022 NOB-06 | Amber Vial: 15 mL | 8/4/2021
College of American Pathologists | 2022 SCDD-01 | HDPE Bottle: 10 mL | 8/4/2021
College of American Pathologists | 2022 SCDD-02 | HDPE Bottle: 10 mL | 8/4/2021
College of American Pathologists | 2022 SCDD-03 | HDPE Bottle: 10 mL | 8/4/2021
College of American Pathologists | 2022 SCDD-04 | HDPE Bottle: 10 mL | 8/4/2021
College of American Pathologists | 2022 SCDD-05 | HDPE Bottle: 10 mL | 8/4/2021
College of American Pathologists | 2022 SCDD-06 | HDPE Bottle: 10 mL | 8/4/2021
CPI International | Custom Cannabinoid Mixture, 11-0202, 250 ug/mL, 0.4 ml | Amber ampule: 0.4 mL | 10/5/2021
CPI Internatonal | Custom Cannabinoid Mixture, 11-0268, 500 ug/mL, 0.4 ml | Amber ampule: 0.4 mL | 10/5/2021
LGC—Dr. Ehrenstorfer | 19-Norandrost-4-ene-3,17-dione 100 μg/mL in Acetonitrile | Amber ampule: 1 mL | 10/5/2021
LGC—Dr. Ehrenstorfer | Cannabinoids Mixture 269 100 μg/mL in Acetonitrile | Certain Capillary Vial: 1 mL | 12/27/2021
LGC—Dr. Ehrenstorfer | Carisoprodol 100 μg/mL in Acetonitrile | Amber ampule: 1 mL | 10/5/2021
LGC—Dr. Ehrenstorfer | Delta8-Tetrahydrocannabinol 250 μg/mL in Acetonitrile | Amber ampule: 1 mL | 10/14/2021
LGC—Dr. Ehrenstorfer | Delta9-Tetrahydrocannabinol 250 μg/mL in Acetonitrile | Amber ampule: 1 mL | 10/14/2021
LGC—Dr. Ehrenstorfer | Delta9-Tetrahydrocannabinolic acid 250 μg/mL in Acetonitrile | Amber ampule: 1 mL | 10/14/2021
LGC—Dr. Ehrenstorfer | Delta9-Tetrahydrocannabivarin (THCV) 10 μg/mL in Methanol | Amber ampule: 1 mL | 10/14/2021
LGC—Dr. Ehrenstorfer | Delta9-Tetrahydrocannabivarin (THCV) 250 μg/mL in Acetonitrile | Amber ampule: 1 mL | 9/10/2021
LGC—Dr. Ehrenstorfer | Diazepam 1000 μg/mL in Methanol | Amber ampule: 1 mL | 10/28/2021
LGC—Dr. Ehrenstorfer | Drostanolone propionate 100 μg/mL in Acetonitrile | Amber ampule: 1 mL | 9/10/2021
LGC—Dr. Ehrenstorfer | Mestanolone 100 μg/mL in Acetonitrile | Amber ampule: 1 mL | 9/10/2021
LGC—Dr. Ehrenstorfer | Methandrostenolone 100 μg/mL in Acetonitrile | Amber ampule: 1 mL | 10/5/2021
LGC—Dr. Ehrenstorfer | Methenolone 100 μg/mL in Acetonitrile | Amber ampule: 1 mL | 9/10/2021
LGC—Dr. Ehrenstorfer | Methenolone acetate 100 μg/mL in Acetonitrile | Amber ampule: 1 mL | 9/10/2021
LGC—Dr. Ehrenstorfer | Methenolone enanate 100 μg/mL in Acetonitrile | Amber ampule: 1 mL | 9/10/2021
LGC—Dr. Ehrenstorfer | Methylandrostenediol 100 μg/mL in Acetonitrile | Amber ampule: 1 mL | 10/5/2021
LGC—Dr. Ehrenstorfer | Testosterone cyprionate 100 μg/mL in Acetonitrile | Amber ampule: 1 mL | 9/10/2021
LGC—Dr. Ehrenstorfer | Trenbolone -acetate 100 μg/mL in Acetonitrile | Amber ampule: 1 mL | 9/10/2021
LGC GmbH | Butalbital 1.0 mg/ml in Methanol | Glass vial: 1 mL | 12/10/2021
LGC GmbH | Codeine 6-beta-D-Glucuronide 1.0 mg/ml in water | Glass vial: 1 mL | 12/10/2021
LGC GmbH | Fentanyl 0.1 mg/ml in Methanol | Glass vial: 1 mL | 12/10/2021
LGC GmbH | Norfentanyl (N-Phenyl-N-(piperidin-4-yl)propanamide) 1.0 mg/ml in Methanol | Glass vial: 1 mL | 12/10/2021
Lipomed, Inc | Psilocin 1 mg/mL in Acetonitrile | Amber ampule: 1 mL | 8/6/2021
Lipomed, Inc | Psilocybin 1 mg/mL in Acetonitrile./water (1:1) | Amber ampule: 1 mL | 8/6/2021
National Laboratory Certification Program | 3000301B, 3053607B, 3084208B, 3103122B, 3156687B, 3158826B, 3183876B, 3201353B, 3229034B, 3233324B, 3277815B, 3298240B, 3383493B, 3399449B, 3413172B, 3470836B, 3508218B, 3554818B, 3625338B, 3658358B, 3706577B, 3737871B, 3815352B, 3823243B | HDPE vial: 3 mL | 9/13/2021
National Laboratory Certification Program | 3000670B, 3032994B, 3079288B, 3087729B, 3129996B, 3143285B, 3175656B, 3205258B, 3211974B, 3219480B, 3220498B, 3234331B, 3304440B, 3319768B, 3331949B, 3360550B, 3454144B, 3556565B, 3602149B, 3612809B, 3759595B, 3766891B, 3834257B, 3840355B | HDPE vial: 3 mL | 9/13/2021
National Laboratory Certification Program | 3001256B, 3049804B, 3065461B, 3076777B, 3094226B, 3107432B, 3133183B, 3166163B, 3205456B, 3251624B, 3267771B, 3312521B, 3408750B, 3412141B, 3475940B, 3489631B, 3493042B, 3496785B, 3534087B, 3547891B, 3562016B, 3583238B, 3642398B, 3670153B | HDPE vial: 3 mL | 9/13/2021
National Laboratory Certification Program | 3001930B, 3053799B, 3067331B, 3217483B, 3249962B, 3252399B, 3257007B, 3283704B, 3290913B, 3300942B, 3313345B, 3356739B, 3363749B, 3398017B, 3464034B, 3492609B, 3533880B, 3534125B, 3577760B, 3610623B, 3634218B, 3715106B, 3797301B, 3800867B | HDPE vial: 3 mL | 9/13/2021
National Laboratory Certification Program | 3002725B, 3038406B, 3062660B, 3072460B, 3087244B, 3154378B, 3321460B, 3361495B, 3387749B, 3411158B, 3442938B, 3481924B, 3506635B, 3512954B, 3530321B, 3557516B, 3573234B, 3644954B, 3693710B, 3722436B, 3730620B, 3755114B, 3818143B, 3829739B | HDPE vial: 3 mL | 9/13/2021
National Laboratory Certification Program | 3002882A, 3028570A, 3036478A, 3118833A, 3182692A, 3190145A, 3193313A, 3197420A, 3198433A, 3222023A, 3299073A, 3315482A, 3346597A, 3433659A, 3483907A, 3528495A, 3530692A, 3604775A, 3665629A, 3731585A, 3736476A, 3756355A, 3773428A, 3803698A | HDPE vial: 3 mL | 9/13/2021
National Laboratory Certification Program | 3003428A, 3076536A, 3098332A, 3184891A, 3192786A, 3220587A, 3243741A, 3268860A, 3303950A, 3497611A, 3525874A, 3547255A, 3609651A, 3648156A, 3655950A, 3682011A, 3690946A, 3693884A, 3709375A, 3787270A, 3809742A, 3867580A, 3871107A, 3899709A | HDPE vial: 3 mL | 9/13/2021
National Laboratory Certification Program | 3004102B, 3061919B, 3067584B, 3182767B, 3259518B, 3277121B, 3280849B, 3344267B, 3354418B, 3379735B, 3472004B, 3498418B, 3563359B, 3567549B, 3571788B, 3603663B, 3623930B, 3639850B, 3645137B, 3655511B, 3667869B, 3693135B, 3800153B, 3816405B | HDPE vial: 3 mL | 9/13/2021
National Laboratory Certification Program | 3004456B, 3010241B, 3049402B, 3066217B, 3090094B, 3106608B, 3119130B, 3255475B, 3304866B, 3306126B, 3387057B, 3461609B, 3466933B, 3499210B, 3513516B, 3616880B, 3624838B, 3652628B, 3662466B, 3715271B, 3731168B, 3755832B, 3768746B, 3808607B | HDPE vial: 3 mL | 9/13/2021
National Laboratory Certification Program | 3004459B, 3012938B, 3100503B, 3151938B, 3221006B, 3233063B, 3247680B, 3330056B, 3373427B, 3415515B, 3463883B, 3498650B, 3589710B, 3595282B, 3610043B, 3706099B, 3720530B, 3727533B, 3757975B, 3783997B, 3797718B, 3812546B, 3827723B, 3844354B | HDPE vial: 3 mL | 9/13/2021
National Laboratory Certification Program | 3004499B, 3023722B, 3099165B, 3112979B, 3127505B, 3136949B, 3215719B, 3241024B, 3278495B, 3321843B, 3332081B, 3401270B, 3429193B, 3436991B, 3464872B, 3470894B, 3498192B, 3505984B, 3588409B, 3681412B, 3705510B, 3708606B, 3715336B, 3745790B | HDPE vial: 3 mL | 9/13/2021
National Laboratory Certification Program | 3006245B, 3048677B, 3092932B, 3113535B, 3115421B, 3126039B, 3216871B, 3239795B, 3279560B, 3282287B, 3298461B, 3321857B, 3327593B, 3388101B, 3414018B, 3444816B, 3484045B, 3500148B, 3535498B, 3566624B, 3575438B, 3589851B, 3593765B, 3594140B | HDPE vial: 3 mL | 9/13/2021
National Laboratory Certification Program | 3006287B, 3024365B, 3072772B, 3102304B, 3181119B, 3205421B, 3210145B, 3212012B, 3219963B, 3237536B, 3248910B, 3251463B, 3306543B, 3370725B, 3373480B, 3422342B, 3466404B, 3473372B, 3506771B, 3508548B, 3524133B, 3618957B, 3665329B, 3700588B | HDPE vial: 3 mL | 9/13/2021
National Laboratory Certification Program | 3008708A, 3016714A, 3025842A, 3070529A, 3085647A, 3098353A, 3119731A, 3142448A, 3154416A, 3167233A, 3218866A, 3222308A, 3269379A, 3274616A, 3279106A, 3317902A, 3382874A, 3425335A, 3444483A, 3531957A, 3600417A, 3642658A, 3657273A, 3750257A | HDPE vial: 3 mL | 9/13/2021
National Laboratory Certification Program | 3008828A, 3026409A, 3038392A, 3218744A, 3254477A, 3289650A, 3298361A, 3310677A, 3330787A, 3331007A, 3384869A, 3390776A, 3412570A, 3438244A, 3549310A, 3560267A, 3587250A, 3587970A, 3588634A, 3636834A, 3738478A, 3769136A, 3799837A, 3821037A | HDPE vial: 3 mL | 9/13/2021
National Laboratory Certification Program | 3008838B, 3050141B, 3055009B, 3081934B, 3094795B, 3121770B, 3151007B, 3181864B, 3189941B, 3206510B, 3245243B, 3262514B, 3361299B, 3373545B, 3434154B, 3469908B, 3582025B, 3586968B, 3613215B, 3636688B, 3641116B, 3655972B, 3668172B, 3739262B | HDPE vial: 3 mL | 9/13/2021
National Laboratory Certification Program | 3009115B, 3071178B, 3072116B, 3079551B, 3096797B, 3115852B, 3134527B, 3201454B, 3260406B, 3281092B, 3402884B, 3417856B, 3417858B, 3426353B, 3451201B, 3487627B, 3493853B, 3496292B, 3524238B, 3578854B, 3616716B, 3618779B, 3628443B, 3664926B | HDPE vial: 3 mL | 9/13/2021
National Laboratory Certification Program | 3009834A, 3032237A, 3043005A, 3053618A, 3075175A, 3076894A, 3131101A, 3145021A, 3152402A, 3194042A, 3202757A, 3213899A, 3246984A, 3300283A, 3313680A, 3356302A, 3385262A, 3405906A, 3525353A, 3536464A, 3541980A, 3629391A, 3672896A, 3718978A | HDPE vial: 3 mL | 9/13/2021
National Laboratory Certification Program | 3009955A, 3025983A, 3077802A, 3087627A, 3129724A, 3162171A, 3167262A, 3204717A, 3344764A, 3359536A, 3369440A, 3518531A, 3529980A, 3562554A, 3564219A, 3574601A, 3610880A, 3614032A, 3673432A, 3689724A, 3712498A, 3761052A, 3768842A, 3784571A | HDPE vial: 3 mL | 9/13/2021
National Laboratory Certification Program | 3010479A, 3019300A, 3046656A, 3047815A, 3051819A, 3058136A, 3141572A, 3142991A, 3168503A, 3168568A, 3276583A, 3304720A, 3334687A, 3372805A, 3460441A, 3505207A, 3570174A, 3596620A, 3637562A, 3681777A, 3746596A, 3767630A, 3785272A, 3795682A | HDPE vial: 3 mL | 9/13/2021
National Laboratory Certification Program | 3010632B, 3027415B, 3040029B, 3147629B, 3168655B, 3191473B, 3196619B, 3204959B, 3248736B, 3266360B, 3302473B, 3325620B, 3389278B, 3409693B, 3533496B, 3559118B, 3625183B, 3643588B, 3687362B, 3701656B, 3716357B, 3729135B, 3739883B, 3756621B | HDPE vial: 3 mL | 9/13/2021
National Laboratory Certification Program | 3011334A, 3054962A, 3123658A, 3126696A, 3283098A, 3308345A, 3337250A, 3344485A, 3358993A, 3393457A, 3399326A, 3399379A, 3425672A, 3431652A, 3576731A, 3596648A, 3598670A, 3602748A, 3664763A, 3686748A, 3713176A, 3727573A, 3736626A, 3755186A | HDPE vial: 3 mL | 9/13/2021
National Laboratory Certification Program | 3011386B, 3076154B, 3085817B, 3157502B, 3184735B, 3262215B, 3381196B, 3471350B, 3473362B, 3473659B, 3474599B, 3492320B, 3496214B, 3540285B, 3557251B, 3583127B, 3584328B, 3617916B, 3626903B, 3666056B, 3692840B, 3730008B, 3766776B, 3842750B | HDPE vial: 3 mL | 9/13/2021
National Laboratory Certification Program | 3012172A, 3049473A, 3061547A, 3068909A, 3216904A, 3251252A, 3251723A, 3258273A, 3291572A, 3322138A, 3327105A, 3361723A, 3391155A, 3439019A, 3470434A, 3474424A, 3476315A, 3672534A, 3689234A, 3689253A, 3725647A, 3736534A, 3777644A, 3793837A | HDPE vial: 3 mL | 9/13/2021
National Laboratory Certification Program | 3012337B, 3045030B, 3054379B, 3192242B, 3198182B, 3213208B, 3226568B, 3307120B, 3332769B, 3377297B, 3379395B, 3386564B, 3481464B, 3482917B, 3539583B, 3578026B, 3596183B, 3731615B, 3737486B, 3766260B, 3781197B, 3864040B, 3875090B, 3899412B | HDPE vial: 3 mL | 9/13/2021
National Laboratory Certification Program | 3013028B, 3014731B, 3099745B, 3125642B, 3133329B, 3150889B, 3196292B, 3201158B, 3240793B, 3254970B, 3327084B, 3393776B, 3409535B, 3424764B, 3426650B, 3485112B, 3507951B, 3542168B, 3588332B, 3590641B, 3597973B, 3612044B, 3621558B, 3628060B | HDPE vial: 3 mL | 9/13/2021
National Laboratory Certification Program | 3013899B, 3047268B, 3077303B, 3077380B, 3102664B, 3113045B, 3201829B, 3204047B, 3212368B, 3221830B, 3255898B, 3345392B, 3375569B, 3436063B, 3444985B, 3454187B, 3456569B, 3487783B, 3488426B, 3493248B, 3581727B, 3619561B, 3638314B, 3671622B | HDPE vial: 3 mL | 9/13/2021
National Laboratory Certification Program | 3014277A, 3054350A, 3071415A, 3146516A, 3162470A, 3246104A, 3252641A, 3264270A, 3274573A, 3320271A, 3383723A, 3392424A, 3455759A, 3478640A, 3484417A, 3489752A, 3526242A, 3628091A, 3642285A, 3649691A, 3695014A, 3771792A, 3779678A, 3786913A | HDPE vial: 3 mL | 9/13/2021
National Laboratory Certification Program | 3014626A, 3035226A, 3077914A, 3080686A, 3082234A, 3123444A, 3155810A, 3161553A, 3332493A, 3337740A, 3353616A, 3486257A, 3507423A, 3510294A, 3535684A, 3545489A, 3667138A, 3669339A, 3699026A, 3716893A, 3733737A, 3770383A, 3840899A, 3877286A | HDPE vial: 3 mL | 9/13/2021
National Laboratory Certification Program | 3017131B, 3026375B, 3101868B, 3115686B, 3123639B, 3139555B, 3146834B, 3210067B, 3223628B, 3227210B, 3321910B, 3440754B, 3526276B, 3532250B, 3567811B, 3588199B, 3588516B, 3602849B, 3606787B, 3650186B, 3650483B, 3685112B, 3745963B, 3827992B | HDPE vial: 3 mL | 9/13/2021
National Laboratory Certification Program | 3017296A, 3089817A, 3102219A, 3108957A, 3216724A, 3257045A, 3264554A, 3301964A, 3311892A, 3435185A, 3435502A, 3437870A, 3449317A, 3511056A, 3578930A, 3597863A, 3632574A, 3647302A, 3686097A, 3702439A, 3786314A, 3826747A, 3841424A, 3860574A | HDPE vial: 3 mL | 9/13/2021
National Laboratory Certification Program | 3017391B, 3051445B, 3057067B, 3087211B, 3117856B, 3235445B, 3269565B, 3276378B, 3310093B, 3336452B, 3357458B, 3383344B, 3447183B, 3472336B, 3517354B, 3521060B, 3537088B, 3628030B, 3656027B, 3656477B, 3666287B, 3725810B, 3812346B, 3827884B | HDPE vial: 3 mL | 9/13/2021
National Laboratory Certification Program | 3017464A, 3061947A, 3105743A, 3118845A, 3157908A, 3183565A, 3214791A, 3317031A, 3335054A, 3360757A, 3397761A, 3425786A, 3433792A, 3496660A, 3531444A, 3531581A, 3545804A, 3557878A, 3559163A, 3602685A, 3621111A, 3643237A, 3647107A, 3677051A | HDPE vial: 3 mL | 9/13/2021
National Laboratory Certification Program | 3018233A, 3149094A, 3202345A, 3246162A, 3254294A, 3271001A, 3286494A, 3351055A, 3357803A, 3372684A, 3419821A, 3432039A, 3452545A, 3456851A, 3467579A, 3537667A, 3574010A, 3621300A, 3646140A, 3715917A, 3729244A, 3783152A, 3795769A, 3876434A | HDPE vial: 3 mL | 9/13/2021
National Laboratory Certification Program | 3018302A, 3024118A, 3024998A, 3035864A, 3083660A, 3093978A, 3094815A, 3124506A, 3127471A, 3133616A, 3150608A, 3224828A, 3236416A, 3379952A, 3449221A, 3515236A, 3525862A, 3542969A, 3568626A, 3678732A, 3700244A, 3705093A, 3735792A, 3793734A | HDPE vial: 3 mL | 9/13/2021
National Laboratory Certification Program | 3018797A, 3058717A, 3076016A, 3094926A, 3124692A, 3132733A, 3144795A, 3170055A, 3177938A, 3179180A, 3199727A, 3213684A, 3218115A, 3253648A, 3295330A, 3329630A, 3339587A, 3374941A, 3415296A, 3465116A, 3500290A, 3521058A, 3528832A, 3632002A | HDPE vial: 3 mL | 9/13/2021
National Laboratory Certification Program | 3019454A, 3020820A, 3076066A, 3115784A, 3201070A, 3225082A, 3239312A, 3276716A, 3303075A, 3335812A, 3375837A, 3379796A, 3401174A, 3423034A, 3454814A, 3487926A, 3492517A, 3581724A, 3636060A, 3666774A, 3670732A, 3716880A, 3723632A, 3763826A | HDPE vial: 3 mL | 9/13/2021
National Laboratory Certification Program | 3020527A, 3026789A, 3075508A, 3245437A, 3271303A, 3281468A, 3298196A, 3319418A, 3321790A, 3330450A, 3338616A, 3377012A, 3445838A, 3478926A, 3490923A, 3499296A, 3523968A, 3528755A, 3542722A, 3609532A, 3612845A, 3679856A, 3748530A, 3782719A | HDPE vial: 3 mL | 9/13/2021
National Laboratory Certification Program | 3022756B, 3029938B, 3074194B, 3074993B, 3086341B, 3130776B, 3171227B, 3205064B, 3206769B, 3236004B, 3246091B, 3325696B, 3333909B, 3334502B, 3368350B, 3413517B, 3422044B, 3444947B, 3447518B, 3487094B, 3516962B, 3536967B, 3684705B, 3702588B | HDPE vial: 3 mL | 9/13/2021
National Laboratory Certification Program | 3022987A, 3057323A, 3059381A, 3130343A, 3164563A, 3181674A, 3229310A, 3232545A, 3274096A, 3307805A, 3310367A, 3323088A, 3328795A, 3354207A, 3380697A, 3383031A, 3386017A, 3430363A, 3483469A, 3531094A, 3644733A, 3652546A, 3661318A, 3715119A | HDPE vial: 3 mL | 9/13/2021
National Laboratory Certification Program | 3023260A, 3037680A, 3038359A, 3043771A, 3056518A, 3118831A, 3121329A, 3150339A, 3193649A, 3228398A, 3258512A, 3369163A, 3407370A, 3466141A, 3502244A, 3532993A, 3548893A, 3578937A, 3603623A, 3633306A, 3641133A, 3641154A, 3692635A, 3721001A | HDPE vial: 3 mL | 9/13/2021
National Laboratory Certification Program | 3023315B, 3044667B, 3050898B, 3086301B, 3092086B, 3097396B, 3098257B, 3114458B, 3199922B, 3281688B, 3288526B, 3352481B, 3460208B, 3499059B, 3558644B, 3624433B, 3662489B, 3692883B, 3716983B, 3749133B, 3795606B, 3812398B, 3822238B, 3840948B | HDPE vial: 3 mL | 9/13/2021
National Laboratory Certification Program | 3024515A, 3029804A, 3039443A, 3142081A, 3143623A, 3145741A, 3147406A, 3160969A, 3167594A, 3228586A, 3316488A, 3337545A, 3394468A, 3407446A, 3424299A, 3449418A, 3530268A, 3551235A, 3553662A, 3560177A, 3597811A, 3646205A, 3690888A, 3710381A | HDPE vial: 3 mL | 9/13/2021
National Laboratory Certification Program | 3033758B, 3080920B, 3126324B, 3134664B, 3163069B, 3181490B, 3262581B, 3309456B, 3319825B, 3343420B, 3404145B, 3416848B, 3480271B, 3539450B, 3540093B, 3548918B, 3562162B, 3564355B, 3564573B, 3613411B, 3645402B, 3683067B, 3695243B, 3779462B | HDPE vial: 3 mL | 9/13/2021
National Laboratory Certification Program | 3034224B, 3048235B, 3098161B, 3110771B, 3122785B, 3124321B, 3237639B, 3257267B, 3264767B, 3347100B, 3364461B, 3375021B, 3402246B, 3412358B, 3420135B, 3425642B, 3433276B, 3441077B, 3565841B, 3602318B, 3613400B, 3692969B, 3753308B, 3780764B | HDPE vial: 3 mL | 9/13/2021
National Laboratory Certification Program | 3034410A, 3080462A, 3102402A, 3119201A, 3122247A, 3137966A, 3281622A, 3306748A, 3343730A, 3354106A, 3402370A, 3405845A, 3422971A, 3429934A, 3433038A, 3455815A, 3465600A, 3519002A, 3626061A, 3670393A, 3679210A, 3684869A, 3700307A, 3769803A | HDPE vial: 3 mL | 9/13/2021
National Laboratory Certification Program | 3034833A, 3035331A, 3038291A, 3061655A, 3063131A, 3073883A, 3102878A, 3109096A, 3333983A, 3356402A, 3381675A, 3382958A, 3383239A, 3406429A, 3428075A, 3444621A, 3476554A, 3529229A, 3554578A, 3795005A, 3813091A, 3823366A, 3833284A, 3834748A | HDPE vial: 3 mL | 9/13/2021
National Laboratory Certification Program | 3035278B, 3051588B, 3076916B, 3085491B, 3089629B, 3094528B, 3096204B, 3121984B, 3124256B, 3182463B, 3206419B, 3222476B, 3257609B, 3331291B, 3390944B, 3464824B, 3587728B, 3601382B, 3617853B, 3682193B, 3724720B, 3728205B, 3795663B, 3847156B | HDPE vial: 3 mL | 9/13/2021
National Laboratory Certification Program | 3039843B, 3046612B, 3099526B, 3212364B, 3234169B, 3251305B, 3329922B, 3376223B, 3450514B, 3467340B, 3504631B, 3507167B, 3568849B, 3573672B, 3574241B, 3588203B, 3639520B, 3640293B, 3648581B, 3678696B, 3707027B, 3707314B, 3724017B, 3724678B | HDPE vial: 3 mL | 9/13/2021
National Laboratory Certification Program | 3039931B, 3042761B, 3206845B, 3331446B, 3355902B, 3358839B, 3366059B, 3374236B, 3392803B, 3415608B, 3468731B, 3469798B, 3544510B, 3565235B, 3657001B, 3688894B, 3750816B, 3771030B, 3800096B, 3802978B, 3841894B, 3862815B, 3888536B, 3895739B | HDPE vial: 3 mL | 9/13/2021
National Laboratory Certification Program | 3041199A, 3057074A, 3083214A, 3130474A, 3167562A, 3238864A, 3249525A, 3257796A, 3268073A, 3315177A, 3332898A, 3357972A, 3440422A, 3470450A, 3489313A, 3506616A, 3517335A, 3533274A, 3585749A, 3659811A, 3674767A, 3715138A, 3740750A, 3778300A | HDPE vial: 3 mL | 9/13/2021
National Laboratory Certification Program | 3042218A, 3055193A, 3063196A, 3111183A, 3146090A, 3203127A, 3203334A, 3268239A, 3322442A, 3394806A, 3500946A, 3525519A, 3554909A, 3561271A, 3569383A, 3618289A, 3624760A, 3626383A, 3628571A, 3644995A, 3648868A, 3649216A, 3700425A, 3758646A | HDPE vial: 3 mL | 9/13/2021
National Laboratory Certification Program | 3042588A, 3090144A, 3147879A, 3235657A, 3247087A, 3268881A, 3281569A, 3295897A, 3343013A, 3398256A, 3430529A, 3447868A, 3537144A, 3578567A, 3584944A, 3622276A, 3623249A, 3647658A, 3683259A, 3748849A, 3753634A, 3757359A, 3767825A, 3823553A | HDPE vial: 3 mL | 9/13/2021
National Laboratory Certification Program | 3043354B, 3061886B, 3112207B, 3127108B, 3188040B, 3210527B, 3216454B, 3225242B, 3257364B, 3285595B, 3321996B, 3352981B, 3377957B, 3380925B, 3426997B, 3430721B, 3460702B, 3479202B, 3499605B, 3512884B, 3570598B, 3599234B, 3644866B, 3670169B | HDPE vial: 3 mL | 9/13/2021
National Laboratory Certification Program | 3045304B, 3101957B, 3137690B, 3168427B, 3194745B, 3211227B, 3216225B, 3239794B, 3251896B, 3280300B, 3298514B, 3320849B, 3449018B, 3487665B, 3526915B, 3548525B, 3559721B, 3566095B, 3650447B, 3676102B, 3685145B, 3698120B, 3704457B, 3724580B | HDPE vial: 3 mL | 9/13/2021
National Laboratory Certification Program | 3046377A, 3098212A, 3129398A, 3131566A, 3135943A, 3187710A, 3194313A, 3236402A, 3253743A, 3308549A, 3318611A, 3326064A, 3340131A, 3358581A, 3367249A, 3369543A, 3374471A, 3536434A, 3600542A, 3633263A, 3697673A, 3746718A, 3770175A, 3786610A | HDPE vial: 3 mL | 9/13/2021
National Laboratory Certification Program | 3048283B, 3114680B, 3144701B, 3155286B, 3182332B, 3225691B, 3243394B, 3246239B, 3268189B, 3281369B, 3289733B, 3301515B, 3327125B, 3389988B, 3429907B, 3474919B, 3615677B, 3662270B, 3667200B, 3679094B, 3684599B, 3706790B, 3711074B, 3730484B | HDPE vial: 3 mL | 9/13/2021
National Laboratory Certification Program | 3049375A, 3059562A, 3117638A, 3144764A, 3158707A, 3159874A, 3169106A, 3200605A, 3332518A, 3347176A, 3362032A, 3403205A, 3464910A, 3517568A, 3544410A, 3569813A, 3583530A, 3679139A, 3685846A, 3734629A, 3762895A, 3810417A, 3823466A, 3863311A | HDPE vial: 3 mL | 9/13/2021
National Laboratory Certification Program | 3050941A, 3101924A, 3133330A, 3135194A, 3151106A, 3183193A, 3194436A, 3227748A, 3268146A, 3414464A, 3453160A, 3517256A, 3549368A, 3595129A, 3763791A, 3765464A, 3765891A, 3766903A, 3788462A, 3791715A, 3799366A, 3856208A, 3857179A, 3860615A | HDPE vial: 3 mL | 9/13/2021
National Laboratory Certification Program | 3051638A, 3087119A, 3107322A, 3144908A, 3153523A, 3192419A, 3284388A, 3304132A, 3378652A, 3412001A, 3423565A, 3429871A, 3436471A, 3447727A, 3506621A, 3573323A, 3614040A, 3614483A, 3624692A, 3654539A, 3687183A, 3694046A, 3725576A, 3785881A | HDPE vial: 3 mL | 9/13/2021
National Laboratory Certification Program | 3051882A, 3066507A, 3112326A, 3163238A, 3182649A, 3191094A, 3234392A, 3271638A, 3329656A, 3343406A, 3362381A, 3383388A, 3407448A, 3471219A, 3507119A, 3510547A, 3541616A, 3545894A, 3600650A, 3619541A, 3636930A, 3654422A, 3716003A, 3799917A | HDPE vial: 3 mL | 9/13/2021
National Laboratory Certification Program | 3053133A, 3054649A, 3068683A, 3069171A, 3101331A, 3115191A, 3189390A, 3233124A, 3233594A, 3243042A, 3301081A, 3331568A, 3363494A, 3368184A, 3478675A, 3529350A, 3560376A, 3562159A, 3571393A, 3577723A, 3584059A, 3726117A, 3754843A, 3779142A | HDPE vial: 3 mL | 9/13/2021
National Laboratory Certification Program | 3058935A, 3092962A, 3129401A, 3265392A, 3271446A, 3274442A, 3297577A, 3310054A, 3313197A, 3365969A, 3387508A, 3397502A, 3474282A, 3479713A, 3482596A, 3525485A, 3530168A, 3545512A, 3551861A, 3552004A, 3611321A, 3645018A, 3805872A, 3810125A | HDPE vial: 3 mL | 9/13/2021
National Laboratory Certification Program | 3060892A, 3109767A, 3113037A, 3145139A, 3158413A, 3168075A, 3189652A, 3238570A, 3253458A, 3275678A, 3368401A, 3374018A, 3432891A, 3452436A, 3465389A, 3468246A, 3515588A, 3526702A, 3533390A, 3653318A, 3756260A, 3827077A, 3853255A, 3886471A | HDPE vial: 3 mL | 9/13/2021
National Laboratory Certification Program | 3068499A, 3173397A, 3190004A, 3198545A, 3205379A, 3213984A, 3266174A, 3283428A, 3306373A, 3332348A, 3411211A, 3429670A, 3437347A, 3506194A, 3517398A, 3521283A, 3569583A, 3591698A, 3596442A, 3618933A, 3683745A, 3700002A, 3711553A, 3797117A, 3806263A | HDPE vial: 3 mL | 9/13/2021
National Laboratory Certification Program | 3070609B, 3114265B, 3122329B, 3148487B, 3162138B, 3201104B, 3325741B, 3330553B, 3353270B, 3354566B, 3356241B, 3435801B, 3468939B, 3477377B, 3528908B, 3589501B, 3624541B, 3676364B, 3677554B, 3693335B, 3706594B, 3751671B, 3764185B, 3787870B | HDPE vial: 3 mL | 9/13/2021
National Laboratory Certification Program | 3070698A, 3078192A, 3103700A, 3163670A, 3176403A, 3193961A, 3226709A, 3231858A, 3265601A, 3289811A, 3421904A, 3454756A, 3481864A, 3482407A, 3509388A, 3521249A, 3535368A, 3592769A, 3607507A, 3617172A, 3640030A, 3674810A, 3692752A, 3727986A | HDPE vial: 3 mL | 9/13/2021
National Laboratory Certification Program | 3074214A, 3084538A, 3087300A, 3116946A, 3122365A, 3227721A, 3230548A, 3284466A, 3390491A, 3402415A, 3486697A, 3518682A, 3534512A, 3538212A, 3556397A, 3649052A, 3668831A, 3676000A, 3708014A, 3768703A, 3819545A, 3820277A, 3831189A, 3864906A | HDPE vial: 3 mL | 9/13/2021
National Laboratory Certification Program | 3081024A, 3091460A, 3116119A, 3133530A, 3180854A, 3183796A, 3194248A, 3227047A, 3228058A, 3254215A, 3254352A, 3263321A, 3272674A, 3343212A, 3520982A, 3555237A, 3561611A, 3571328A, 3651892A, 3684583A, 3713606A, 3719497A, 3757517A, 3785698A | HDPE vial: 3 mL | 9/13/2021
National Laboratory Certification Program | 3084696B, 3102460B, 3148397B, 3254915B, 3329992B, 3403226B, 3472260B, 3475562B, 3480413B, 3486261B, 3550221B, 3564715B, 3600735B, 3613567B, 3620049B, 3620584B, 3723583B, 3734199B, 3749278B, 3757974B, 3850603B, 3867029B, 3880567B, 3880989B | HDPE vial: 3 mL | 9/13/2021
National Laboratory Certification Program | 3108482A, 3110411A, 3216617A, 3221209A, 3233596A, 3287967A, 3333031A, 3354214A, 3357977A, 3395942A, 3407011A, 3433699A, 3434044A, 3442774A, 3466342A, 3486208A, 3486314A, 3493194A, 3548093A, 3550525A, 3581852A, 3592113A, 3661157A, 3698038A | HDPE vial: 3 mL | 9/13/2021
National Laboratory Certification Program | 3144998B, 3145083B, 3153578B, 3156212B, 3200709B, 3230462B, 3337259B, 3385798B, 3566093B, 3593197B, 3624368B, 3655255B, 3700779B, 3718551B, 3772690B, 3792532B, 3840928B, 3852293B, 3859792B, 3895239B, 3920670B, 3922642B, 3931513B, 3941243B | HDPE vial: 3 mL | 9/13/2021
o2si smart solutions | Custom Cannabinoid Mixture 11-0361 500-10000 ug/ml 0.5 ml | Boston Round: 0.5 mL | 8/18/2021
o2si smart solutions | Custom Pharmaceutical Mixture Calibration Kit 16-0260, (2 × G34—140260-98) | 1 kit; 26 amber ampules × 300 μL | 9/13/2021
o2si smart solutions | Custom Pharmaceutical Mixture Calibration Pack 16-0260, 13 × 1 ml | 1 pack; 13 amber ampules × 300 μL | 9/13/2021
o2si smart solutions | Custom Pharmaceutical Mixture CCV 16-0260, 10.0 μg/mL, 300 μL with a 2 mL silanized vial (ISO17034) | Amber ampule: 300 μL | 9/13/2021
o2si smart solutions | Custom Pharmaceutical Mixture ICV (second source), 16-0260, 10.0 μg/mL, 300 μL with a 2 mL silanized vial (ISO17034) | Amber ampule: 300 μL | 9/13/2021
o2si smart solutions | Custom Pharmaceutical Mixture LCS, 16-0260, 10.0 ug/mL, 1 mL with a 2 ml Silanized Vial (ISO17034) | Amber ampule:1 mL | 9/13/2021
o2si smart solutions | Custom Pharmaceutical Mixture LCS, 16-0260, 250.0 ug/mL, 1 mL with a 2 ml Silanized Vial (ISO17034) | Amber ampule: 1 mL | 11/22/2021
o2si smart solutions | Custom Pharmaceutical Mixture Level #1, 16-0260, 0.3 μg/mL, 300 μL with a 2 mL silanized vial (ISO17034) | Amber ampule: 300 μL | 9/13/2021
o2si smart solutions | Custom Pharmaceutical Mixture Level #2, 16-0260, 1.0 μg/mL, 300 μL with a 2 mL silanized vial (ISO17034) | Amber ampule: 300 μL | 9/13/2021
o2si smart solutions | Custom Pharmaceutical Mixture Level #3, 16-0260, 5.0 μg/mL, 300 μL with a 2 mL silanized vial (ISO17034) | Amber ampule: 300 μL | 9/13/2021
o2si smart solutions | Custom Pharmaceutical Mixture Level #4, 16-0260, 10.0 μg/mL, 300 μL with a 2 mL silanized vial (ISO17034) | Amber ampule: 300 μL | 9/13/2021
o2si smart solutions | Custom Pharmaceutical Mixture Level #5, 16-0260, 25.0 μg/mL, 300 μL with a 2 mL silanized vial (ISO17034) | Amber ampule: 300 μL | 9/13/2021
o2si smart solutions | Custom Pharmaceutical Mixture Level #6, 16-0260, 50.0 μg/mL, 300 μL with a 2 mL silanized vial (ISO17034) | Amber ampule: 300 μL | 9/13/2021
o2si smart solutions | Custom Pharmaceutical Mixture Level #7, 16-0260, 100.0 μg/mL, 300 μL with a 2 mL silanized vial (ISO17034) | Amber ampule: 300 μL | 9/13/2021
o2si smart solutions | Custom Pharmaceutical Mixture Level #8, 16-0260, 250.0 μg/mL, 300 μL with a 2 mL silanized vial (ISO17034) | Amber ampule: 300 μL | 9/13/2021
o2si smart solutions | Custom Pharmaceutical Mixture, 13-0364, 100 μg/mL, 5 × 1 mL (ISO 17034) | 5 Pack Amber ampules: 1 mL each | 9/22/2021
o2si smart solutions | ISO 17034 Custom Toxin/Poison Stock Standard Mix, 30-318, 100 mg/L, 1 mL | Amber ampule: 1 mL | 7/21/2021
Purisys, LLC | Delta 9-Tetrahydrocannabinolic Acid (THCA) in Acetonitrile | Sealed ampule: 1 mL | 8/17/2021
Purisys, LLC | Tetrahydrocannabinolic acid in dimethylsulfoxide (1 mg/mL) | Sealed ampule: 1 mL | 8/30/2021
Purisys, LLC | Δ9-Tetrahydrocannabinol in dimethylsulfoxide (1 mg/mL) | Sealed ampule: 1 mL | 8/30/2021
Restek Corporation | Custom Acetate & Aldehyde Standard | Glass ampule: 1.3 mL | 12/15/2021
Restek Corporation | Custom NSF 401 Group #1.2 Standard | Glass ampule: 1.3 mL | 12/14/2021
Restek Corporation | Custom Pharmaceuticals Standard #1 | Glass ampule: 1.3 mL | 9/29/2021
Restek Corporation | Custom Pharmaceuticals Standard #3 | Glass ampule: 1.3 mL | 8/30/2021
Restek Corporation | Custom Pharmaceuticals Standard #6 | Glass ampule: 1.3 mL | 8/30/2021
Roche Diagnostics | 6-Acetylmorphine Control Set Ref# 08240213190 | Kit: 4 dropper bottles; 15 mL each | 7/27/2021
Roche Diagnostics | 6-Acetylmorphine Qualitative Calibrator Set Ref# 08240205190 | Dropper bottle: 5 mL | 7/27/2021
Roche Diagnostics | 6-Acetylmorphine Semi-Quantitative Calibrators Set Ref# 08240183190 | Kit: 5 dropper bottles: 5 mL each | 7/27/2021
Roche Diagnostics | Buprenorphine 10 Control Set Ref# 08239908190 | Kit: 4 dropper bottles; 15 mL each | 7/27/2021
Roche Diagnostics | Buprenorphine 10 Qualitative Calibrator Set Ref# 08239894190 | Dropper bottle: 5 mL | 7/27/2021
Roche Diagnostics | Buprenorphine 5 Control Set Ref# 08356670190 | Kit: 4 dropper bottles; 15 mL each | 7/27/2021
Roche Diagnostics | Buprenorphine 5 Qualitative Calibrator Set Ref# 08356661190 | Dropper bottle: 5 mL | 7/27/2021
Roche Diagnostics | Buprenorphine Semi-Quantitative Calibrators Set Ref# 08239886190 | Kit: 6 dropper bottles: 5 mL each | 7/27/2021
Roche Diagnostics | DAT Opiates Multi Control I Set Ref# 09330119190 | Kit: 4 dropper bottles: 15 mL each | 7/26/2021
Roche Diagnostics | Fentanyl Qualitative Calibrator Set Ref# 09330097190 | Dropper bottle: 5 mL | 7/26/2021
Roche Diagnostics | Hydrocodone 100 Control Set Ref# 08304742190 | Kit: 4 dropper bottles; 15 mL each | 7/27/2021
Roche Diagnostics | Hydrocodone 100 Qualitative Calibrator Set Ref# 08304734190 | Dropper bottle: 5 mL | 7/27/2021
Roche Diagnostics | Hydrocodone 100 Semi-Quantitative Calibrators Set Ref# 08304718190 | Kit: 5 dropper bottles: 5 mL each | 7/27/2021
Roche Diagnostics | Hydrocodone 300 Control Set Ref# 08239851190 | Kit: 4 dropper bottles; 15 mL each | 7/27/2021
Roche Diagnostics | Hydrocodone 300 Qualitative Calibrator Set Ref# 08239843190 | Dropper bottle: 5 mL | 7/27/2021
Roche Diagnostics | Hydrocodone 300 Semi-Quantitative Calibrators Set Ref# 08239827190 | Kit: 5 dropper bottles: 5 mL each | 7/27/2021
RTI International | 000382B, 030449B, 033498B, 038922B, 039862B, 090400B, 146079B, 192053B, 212337B, 241168B, 287670B, 304327B, 332636B, 396817B, 410327B, 427256B, 527123B, 543000B, 544988B, 571072B, 601995B, 645346B, 664574B, 729585B, 739504B, 757277B, 781245B, 814526B | HDPE bottles: 35 mL | 9/14/2021
RTI International | 001355A, 056755A, 093169A, 096514A, 104752A, 132047A, 135710A, 141093A, 207832A, 250956A, 262210A, 322090A, 349735A, 370117A, 373438A, 373948A, 375489A, 401306A, 479905A, 502837A, 525072A, 525354A, 541420A, 622732A, 622814A, 655269A, 673741A, 724033A | HDPE bottles: 35 mL | 9/14/2021
RTI International | 001958A, 046335A, 069934A, 092611A, 112555A, 116892A, 179368A, 224648A, 255451A, 303476A, 343649A, 346062A, 354928A, 359963A, 412328A, 432376A, 469355A, 475498A, 550297A, 561828A, 614670A, 624432A, 692509A, 694975A, 746438A, 758056A, 770349A, 802258A | HDPE bottles: 35 mL | 9/14/2021
RTI International | 002486B, 008180B, 022758B, 027643B, 145609B, 158337B, 168213B, 227304B, 261497B, 262097B, 263064B, 314163B, 332587B, 346651B, 387628B, 390939B, 398197B, 440632B, 493412B, 513759B, 520774B, 557176B, 609772B, 655570B, 699746B, 744019B, 758457B, 779150B | HDPE bottles: 35 mL | 9/14/2021
RTI International | 003264B, 010287B, 035050B, 035622B, 040399B, 069082B, 102598B, 105202B, 106703B, 120072B, 142646B, 213000B, 276154B, 421458B, 433910B, 436945B, 439209B, 448564B, 457453B, 463715B, 468656B, 483876B, 498189B, 572052B, 604943B, 632692B, 659105B, 734338B | HDPE bottles: 35 mL | 9/14/2021
RTI International | 003522B, 007454B, 018485B, 042182B, 048162B, 075318B, 096155B, 152285B, 152570B, 171928B, 256062B, 304943B, 308786B, 332949B, 352716B, 358489B, 375524B, 422817B, 439811B, 452078B, 485177B, 568025B, 588777B, 600043B, 621012B, 635185B, 666624B, 688732B | HDPE bottles: 35 mL | 9/14/2021
RTI International | 004284B, 009205B, 022363B, 023926B, 027669B, 077712B, 097976B, 117096B, 137137B, 155082B, 201475B, 222722B, 240934B, 310859B, 319055B, 325185B, 325313B, 344538B, 357780B, 360156B, 393298B, 400502B, 423723B, 442087B, 464507B, 514765B, 529072B, 542637B | HDPE bottles: 35 mL | 9/14/2021
RTI International | 006033B, 017000B, 082761B, 101519B, 131337B, 170167B, 171246B, 184779B, 205725B, 256627B, 257633B, 281194B, 303533B, 309737B, 318283B, 347633B, 378444B, 427078B, 463032B, 466703B, 511146B, 523997B, 539975B, 540992B, 556413B, 613166B, 638296B, 642311B | HDPE bottles: 35 mL | 9/14/2021
RTI International | 006072A, 027577A, 067890A, 125064A, 137302A, 142698A, 246456A, 251595A, 275283A, 282815A, 319753A, 337678A, 338177A, 355955A, 391553A, 437636A, 462629A, 469539A, 498444A, 539865A, 543326A, 570273A, 588331A, 591648A, 670321A, 714662A, 774840A, 824851A | HDPE bottles: 35 mL | 9/14/2021
RTI International | 006746B, 021551B, 023268B, 058678B, 062270B, 065266B, 093869B, 152084B, 162960B, 181899B, 263318B, 291279B, 316416B, 332734B, 338411B, 357942B, 387507B, 408151B, 504393B, 505918B, 505953B, 555730B, 641988B, 735892B, 799695B, 807383B, 821232B, 829503B | HDPE bottles: 35 mL | 9/14/2021
RTI International | 007066A, 018010A, 077641A, 080843A, 103467A, 131933A, 150657A, 176069A, 199131A, 211523A, 273880A, 305340A, 309199A, 318340A, 417682A, 423962A, 461182A, 543968A, 551300A, 562930A, 563032A, 563085A, 574724A, 576446A, 653108A, 657079A, 662399A, 741331A | HDPE bottles: 35 mL | 9/14/2021
RTI International | 007345A, 023974A, 063528A, 118425A, 138846A, 153511A, 168437A, 169265A, 225700A, 237092A, 376724A, 393402A, 397902A, 409713A, 495584A, 541626A, 571065A, 603541A, 615438A, 624687A, 654283A, 657412A, 673819A, 693302A, 739853A, 760294A, 777216A, 810352A | HDPE bottles: 35 mL | 9/14/2021
RTI International | 007736B, 011172B, 114812B, 117495B, 120995B, 143574B, 162860B, 180412B, 262498B, 268018B, 279722B, 316516B, 336594B, 362841B, 383168B, 421968B, 443271B, 567403B, 626548B, 682862B, 683790B, 684524B, 724353B, 766530B, 802102B, 837643B, 856625B, 870279B | HDPE bottles: 35 mL | 9/14/2021
RTI International | 007805B, 011746B, 040665B, 063782B, 114545B, 201389B, 224334B, 230165B, 245660B, 257727B, 287269B, 306855B, 367522B, 387596B, 394756B, 420864B, 425386B, 426467B, 442507B, 461004B, 536423B, 579190B, 582644B, 583948B, 587223B, 609372B, 666559B, 692905B | HDPE bottles: 35 mL | 9/14/2021
RTI International | 007990B, 060463B, 072768B, 167809B, 257829B, 278338B, 305472B, 309358B, 317182B, 323102B, 357375B, 397415B, 422241B, 448463B, 458704B, 483464B, 497949B, 532944B, 557160B, 642544B, 649674B, 667600B, 711326B, 711400B, 758154B, 777493B, 803735B, 856376B | HDPE bottles: 35 mL | 9/14/2021
RTI International | 008249B, 017005B, 023025B, 045053B, 047289B, 210248B, 213179B, 242611B, 324279B, 343336B, 352904B, 357536B, 436704B, 444440B, 482065B, 497633B, 524663B, 645614B, 649427B, 704335B, 722142B, 727368B, 742926B, 753947B, 754736B, 756471B, 761898B, 818387B | HDPE bottles: 35 mL | 9/14/2021
RTI International | 008378A, 020285A, 070609A, 126965A, 161603A, 221890A, 222561A, 224448A, 229304A, 236314A, 296755A, 309735A, 312792A, 314688A, 340252A, 379329A, 391445A, 401701A, 556508A, 610582A, 628117A, 680391A, 702425A, 732151A, 745048A, 796290A, 802487A, 805069A | HDPE bottles: 35 mL | 9/14/2021
RTI International | 008485B, 039768B, 055877B, 094384B, 143908B, 146833B, 152530B, 154757B, 157678B, 163169B, 259398B, 279357B, 340363B, 360253B, 380907B, 392903B, 395158B, 414641B, 436901B, 465886B, 553767B, 609916B, 616836B, 624654B, 701737B, 709371B, 759588B, 786244B | HDPE bottles: 35 mL | 9/14/2021
RTI International | 008725A, 021166A, 043867A, 059687A, 103195A, 121198A, 139425A, 175863A, 214459A, 216324A, 231260A, 244567A, 250219A, 277343A, 279936A, 362415A, 363655A, 391984A, 449776A, 451230A, 516253A, 613700A, 618257A, 681553A, 710915A, 776155A, 778654A, 784580A | HDPE bottles: 35 mL | 9/14/2021
RTI International | 009318B, 011683B, 025480B, 025671B, 087852B, 099813B, 124045B, 129342B, 137642B, 163514B, 167958B, 252112B, 255896B, 270051B, 310931B, 332711B, 353730B, 367155B, 431266B, 535150B, 547017B, 556833B, 574302B, 688932B, 735439B, 746642B, 791922B, 853560B | HDPE bottles: 35 mL | 9/14/2021
RTI International | 010174B, 010219B, 041899B, 042321B, 047906B, 092518B, 106457B, 127038B, 133134B, 192443B, 210331B, 215233B, 227917B, 272210B, 282011B, 312582B, 333795B, 335310B, 346511B, 375873B, 393763B, 393959B, 409613B, 431610B, 435804B, 451635B, 457274B, 470563B | HDPE bottles: 35 mL | 9/14/2021
RTI International | 010965A, 030741A, 046791A, 058365A, 062541A, 114995A, 122977A, 134512A, 161666A, 172845A, 205566A, 208520A, 221838A, 342285A, 342560A, 346057A, 400632A, 425916A, 431972A, 459933A, 511894A, 512258A, 545877A, 553662A, 560292A, 705320A, 719419A, 746067A | HDPE bottles: 35 mL | 9/14/2021
RTI International | 011426B, 021161B, 058570B, 069449B, 072872B, 103885B, 139082B, 158982B, 178375B, 181825B, 191073B, 209439B, 243326B, 245104B, 258066B, 292927B, 297156B, 298788B, 325388B, 395817B, 443939B, 467104B, 518611B, 541536B, 561414B, 592512B, 654235B, 666333B | HDPE bottles: 35 mL | 9/14/2021
RTI International | 011526A, 015399A, 026322A, 050763A, 083985A, 104236A, 104573A, 143233A, 149811A, 181164A, 213711A, 277402A, 281796A, 322947A, 357155A, 406218A, 439526A, 475066A, 510445A, 546596A, 568298A, 641216A, 660474A, 772730A, 809283A, 861325A, 861483A, 894226A | HDPE bottles: 35 mL | 9/14/2021
RTI International | 011700B, 012578B, 087444B, 098261B, 128878B, 139764B, 174711B, 196224B, 208585B, 214675B, 276119B, 287699B, 391044B, 409892B, 417778B, 449857B, 462580B, 473774B, 529943B, 538354B, 558326B, 594198B, 604966B, 635361B, 660369B, 678549B, 681594B, 766084B | HDPE bottles: 35 mL | 9/14/2021
RTI International | 011813A, 048951A, 110558A, 224844A, 282790A, 308411A, 351924A, 451956A, 455520A, 471589A, 484961A, 495755A, 540110A, 557046A, 565964A, 576151A, 580361A, 601157A, 615300A, 623892A, 634508A, 681430A, 699057A, 758877A, 822810A, 844038A, 844084A, 897647A | HDPE bottles: 35 mL | 9/14/2021
RTI International | 012300A, 046442A, 140584A, 177420A, 204489A, 204557A, 223210A, 223908A, 278944A, 280062A, 282930A, 295960A, 315809A, 316011A, 368543A, 376448A, 438807A, 458240A, 463709A, 520300A, 529416A, 531808A, 641824A, 644216A, 656352A, 693588A, 724613A, 771083A | HDPE bottles: 35 mL | 9/14/2021
RTI International | 013093A, 088130A, 092515A, 144177A, 145776A, 146186A, 167589A, 230580A, 233580A, 239463A, 249482A, 265270A, 277950A, 343285A, 404454A, 411265A, 437591A, 473045A, 476664A, 505605A, 507609A, 524534A, 636725A, 681003A, 726944A, 750420A, 786454A, 786777A | HDPE bottles: 35 mL | 9/14/2021
RTI International | 013468A, 044442A, 051511A, 080096A, 085361A, 155745A, 156379A, 183152A, 197624A, 208401A, 227088A, 266951A, 307566A, 312104A, 406314A, 467036A, 475292A, 494123A, 498736A, 509727A, 510981A, 568926A, 582709A, 629522A, 658131A, 664396A, 667372A, 681993A | HDPE bottles: 35 mL | 9/14/2021
RTI International | 013840A, 041967A, 120223A, 164066A, 166335A, 214931A, 252276A, 263438A, 273280A, 274254A, 278555A, 303048A, 342953A, 368214A, 376310A, 380951A, 386162A, 440370A, 468453A, 491212A, 496804A, 559244A, 577944A, 592849A, 653738A, 693786A, 714969A, 742553A | HDPE bottles: 35 mL | 9/14/2021
RTI International | 013910A, 017092A, 051952A, 062357A, 100264A, 118711A, 158003A, 236749A, 257929A, 322690A, 354583A, 376398A, 378950A, 420641A, 444061A, 444746A, 460486A, 515360A, 574203A, 585770A, 588984A, 735988A, 762323A, 834473A, 842293A, 879212A, 882312A, 895374A | HDPE bottles: 35 mL | 9/14/2021
RTI International | 015940A, 039927A, 042116A, 071608A, 108890A, 120345A, 137448A, 148090A, 161528A, 199727A, 220165A, 291463A, 339223A, 345775A, 365899A, 403920A, 404150A, 417972A, 436618A, 493617A, 498658A, 504051A, 513743A, 589229A, 606349A, 614641A, 624754A, 640951A | HDPE bottles: 35 mL | 9/14/2021
RTI International | 016624A, 078074A, 086167A, 101947A, 107160A, 116066A, 130437A, 164162A, 189318A, 229706A, 245387A, 279941A, 315220A, 316445A, 328107A, 359447A, 383964A, 399394A, 407726A, 490289A, 531249A, 537743A, 542550A, 545626A, 583231A, 599934A, 605189A, 624255A | HDPE bottles: 35 mL | 9/14/2021
RTI International | 017730A, 119864A, 171018A, 188883A, 188929A, 199991A, 200435A, 206128A, 223581A, 365346A, 368049A, 385038A, 390328A, 402991A, 407549A, 412778A, 426647A, 444727A, 464296A, 488709A, 506307A, 512500A, 521523A, 542832A, 559006A, 596895A, 653516A, 671321A | HDPE bottles: 35 mL | 9/14/2021
RTI International | 017870A, 062046A, 068630A, 089015A, 094929A, 100395A, 108613A, 157007A, 157186A, 169910A, 196388A, 227251A, 268142A, 341492A, 377483A, 545113A, 619003A, 626831A, 664128A, 664239A, 684240A, 708925A, 742825A, 763995A, 766282A, 800855A, 803573A, 824338A | HDPE bottles: 35 mL | 9/14/2021
RTI International | 018074B, 051240B, 073998B, 114202B, 127629B, 162868B, 166985B, 171374B, 218778B, 350128B, 390030B, 417830B, 463893B, 467586B, 491500B, 576836B, 631251B, 642331B, 650703B, 652497B, 707179B, 716603B, 788466B, 789387B, 807934B, 817252B, 818176B, 839039B | HDPE bottles: 35 mL | 9/14/2021
RTI International | 020517A, 037741A, 113659A, 252081A, 276931A, 298651A, 323790A, 397338A, 402369A, 402780A, 435215A, 457169A, 478964A, 495824A, 502568A, 515559A, 549342A, 656805A, 666954A, 671886A, 745668A, 747906A, 796167A, 829252A, 831939A, 834971A, 835698A, 855989A | HDPE bottles: 35 mL | 9/14/2021
RTI International | 020980B, 041480B, 068463B, 081440B, 102656B, 107474B, 123252B, 126634B, 156669B, 158154B, 172667B, 177534B, 180088B, 190263B, 222400B, 308319B, 365985B, 389228B, 486622B, 505807B, 517986B, 528278B, 554724B, 578021B, 732651B, 747795B, 772431B, 796780B | HDPE bottles: 35 mL | 9/14/2021
RTI International | 022679A, 023750A, 037873A, 068246A, 089803A, 120569A, 124405A, 210636A, 319033A, 366721A, 387037A, 404960A, 405393A, 408999A, 413612A, 420919A, 422609A, 494405A, 520177A, 658584A, 675251A, 675643A, 692660A, 693815A, 694514A, 698266A, 751139A, 758845A | HDPE bottles: 35 mL | 9/14/2021
RTI International | 023097A, 058667A, 061122A, 071991A, 080178A, 082571A, 089258A, 091377A, 127069A, 167719A, 213775A, 263552A, 285450A, 308685A, 374795A, 411196A, 423929A, 474257A, 501797A, 512278A, 527083A, 588635A, 663142A, 672142A, 709179A, 733778A, 797930A, 898357A | HDPE bottles: 35 mL | 9/14/2021
RTI International | 023396B, 025827B, 040707B, 086841B, 087811B, 180485B, 183531B, 203079B, 206510B, 215783B, 223466B, 313246B, 317698B, 348791B, 380884B, 407787B, 433446B, 441053B, 480510B, 492350B, 584055B, 620528B, 625932B, 636368B, 639136B, 640634B, 767440B, 805640B | HDPE bottles: 35 mL | 9/14/2021
RTI International | 025118B, 038688B, 070965B, 088460B, 107650B, 152109B, 181324B, 188695B, 214132B, 226945B, 233130B, 233622B, 274003B, 279646B, 373798B, 401860B, 430945B, 440003B, 485409B, 485750B, 492345B, 518290B, 534980B, 553475B, 570751B, 589675B, 627677B, 716276B | HDPE bottles: 35 mL | 9/14/2021
RTI International | 026483B, 037412B, 149032B, 152913B, 160504B, 186619B, 202810B, 208710B, 246788B, 249267B, 281097B, 349643B, 387130B, 450174B, 452950B, 507650B, 552783B, 573337B, 594255B, 611745B, 612430B, 624473B, 625115B, 625454B, 628509B, 725528B, 729910B, 799055B | HDPE bottles: 35 mL | 9/14/2021
RTI International | 026694B, 048848B, 086986B, 146664B, 158129B, 162657B, 178854B, 190605B, 197436B, 225959B, 247210B, 277562B, 319647B, 324532B, 438064B, 460376B, 501902B, 511745B, 513157B, 538194B, 546125B, 610027B, 642563B, 661317B, 663078B, 685479B, 698409B, 706765B | HDPE bottles: 35 mL | 9/14/2021
RTI International | 027015B, 049679B, 051603B, 053950B, 089127B, 135386B, 138280B, 164130B, 186455B, 192521B, 224641B, 228271B, 257168B, 287249B, 291626B, 357962B, 505516B, 535676B, 536543B, 543665B, 544641B, 665930B, 703520B, 744721B, 785845B, 791676B, 798397B, 802479B | HDPE bottles: 35 mL | 9/14/2021
RTI International | 029083B, 040983B, 118320B, 149752B, 150611B, 166917B, 211066B, 270151B, 282538B, 285886B, 293121B, 299276B, 322798B, 355106B, 371381B, 412996B, 413225B, 451485B, 454841B, 547699B, 581070B, 611090B, 616632B, 622406B, 636503B, 643970B, 721610B, 764571B | HDPE bottles: 35 mL | 9/14/2021
RTI International | 031030A, 033441A, 035719A, 082275A, 106016A, 139825A, 163960A, 168309A, 178326A, 196972A, 254229A, 334665A, 370371A, 421421A, 432085A, 491052A, 511826A, 511871A, 520636A, 559074A, 597622A, 656661A, 669546A, 716388A, 718948A, 744410A, 802562A, 841556A | HDPE bottles: 35 mL | 9/14/2021
RTI International | 033761B, 053598B, 084451B, 085494B, 199713B, 203902B, 252784B, 283309B, 329315B, 344038B, 367228B, 405169B, 413059B, 455485B, 459343B, 485793B, 564918B, 592560B, 616168B, 625196B, 659340B, 688873B, 699287B, 713834B, 731184B, 749101B, 753792B, 779934B | HDPE bottles: 35 mL | 9/14/2021
RTI International | 033790A, 067755A, 069599A, 079210A, 099827A, 101769A, 115501A, 132600A, 192520A, 195620A, 247338A, 328557A, 346384A, 361907A, 369310A, 391092A, 396101A, 515313A, 542894A, 563017A, 566144A, 603641A, 637930A, 679878A, 688648A, 707052A, 721825A, 730865A | HDPE bottles: 35 mL | 9/14/2021
RTI International | 034094A, 040523A, 049848A, 055661A, 072357A, 091114A, 125036A, 135869A, 147474A, 155846A, 166954A, 186292A, 193606A, 199099A, 262568A, 277608A, 282907A, 313026A, 410505A, 418482A, 424765A, 424990A, 432845A, 474405A, 498897A, 521359A, 555546A, 601144A | HDPE bottles: 35 mL | 9/14/2021
RTI International | 034266B, 044317B, 068168B, 074042B, 118136B, 145010B, 146472B, 226639B, 279638B, 291730B, 297755B, 313476B, 382992B, 390596B, 401280B, 409562B, 458367B, 537833B, 578203B, 592033B, 657611B, 660633B, 682368B, 699401B, 711443B, 732829B, 737003B, 790217B | HDPE bottles: 35 mL | 9/14/2021
RTI International | 034512A, 075860A, 101228A, 110642A, 111830A, 149431A, 166111A, 175421A, 207130A, 278988A, 292385A, 293413A, 300113A, 315127A, 372451A, 417218A, 435889A, 436710A, 476371A, 616083A, 635545A, 669466A, 720372A, 745666A, 746719A, 757971A, 815553A, 820735A | HDPE bottles: 35 mL | 9/14/2021
RTI International | 036476A, 051499A, 053986A, 071277A, 082252A, 134277A, 167600A, 178723A, 268399A, 348366A, 350602A, 386798A, 423173A, 526788A, 539056A, 541260A, 559542A, 603211A, 623687A, 637698A, 640017A, 673022A, 764963A, 767836A, 786722A, 795592A, 799191A, 800519A | HDPE bottles: 35 mL | 9/14/2021
RTI International | 036708A, 083917A, 086818A, 090508A, 117782A, 130406A, 181561A, 186031A, 210865A, 279177A, 331075A, 337842A, 349274A, 364105A, 388395A, 399693A, 413944A, 423517A, 444331A, 471261A, 511329A, 534798A, 593399A, 602528A, 689274A, 739266A, 744836A, 769335A | HDPE bottles: 35 mL | 9/14/2021
RTI International | 042088B, 046141B, 067980B, 133103B, 138387B, 149484B, 276844B, 325135B, 339339B, 375126B, 382666B, 472034B, 484718B, 490099B, 496164B, 511180B, 541279B, 579545B, 710946B, 722071B, 741717B, 757104B, 783154B, 793047B, 807929B, 815180B, 848861B, 866113B | HDPE bottles: 35 mL | 9/14/2021
RTI International | 042524B, 067153B, 085207B, 088481B, 118799B, 148645B, 158902B, 193209B, 194198B, 195783B, 200930B, 242588B, 262816B, 283122B, 298710B, 314258B, 328764B, 392087B, 411819B, 412332B, 421330B, 423825B, 595536B, 608878B, 636067B, 660454B, 668853B, 687245B | HDPE bottles: 35 mL | 9/14/2021
RTI International | 043753B, 048283B, 071802B, 106158B, 134797B, 178448B, 229508B, 242088B, 361933B, 364662B, 367499B, 394688B, 411437B, 432337B, 432823B, 503986B, 511558B, 538096B, 542940B, 559479B, 600773B, 617563B, 630555B, 695256B, 731127B, 749462B, 778163B, 779093B | HDPE bottles: 35 mL | 9/14/2021
RTI International | 044568B, 078173B, 088626B, 106025B, 165161B, 191599B, 201838B, 217733B, 222892B, 272217B, 283064B, 285329B, 334762B, 346523B, 399639B, 497926B, 512804B, 581610B, 599676B, 631931B, 646633B, 657337B, 707009B, 707692B, 750240B, 810383B, 824209B, 844453B | HDPE bottles: 35 mL | 9/14/2021
RTI International | 045036A, 088691A, 095294A, 127609A, 134573A, 138033A, 161813A, 187420A, 195072A, 239592A, 247165A, 261412A, 274130A, 300096A, 305456A, 323348A, 383136A, 383885A, 403934A, 429258A, 512120A, 588720A, 621290A, 633441A, 638055A, 728684A, 788050A, 793492A | HDPE bottles: 35 mL | 9/14/2021
RTI International | 047122A, 063183A, 078325A, 114577A, 151124A, 170284A, 181357A, 192257A, 208662A, 221125A, 226855A, 324733A, 328016A, 376347A, 395163A, 458271A, 465651A, 537296A, 565727A, 607658A, 628639A, 629538A, 725657A, 728884A, 791726A, 793302A, 808679A, 813463A | HDPE bottles: 35 mL | 9/14/2021
RTI International | 049152A, 406437A, 409610A, 470241A, 685527A, 772816A | HDPE bottles: 35 mL | 9/14/2021
RTI International | 051575B, 055881B, 069961B, 091730B, 118125B, 163000B, 199267B, 266402B, 273083B, 299528B, 455919B, 478332B, 485972B, 501916B, 512620B, 516085B, 524178B, 541091B, 613750B, 703484B, 746025B, 777755B, 779895B, 793904B, 845477B, 847357B, 848131B, 861091B | HDPE bottles: 35 mL | 9/14/2021
RTI International | 054660A, 096758A, 306853A, 701781A, 825995A, 860534A | HDPE bottles: 35 mL | 9/14/2021
RTI International | 055511B, 107279B, 126577B, 134031B, 153482B, 181565B, 200785B, 222352B, 285529B, 336801B, 355886B, 405525B, 462089B, 472956B, 477421B, 494872B, 499895B, 511995B, 519990B, 524963B, 530923B, 557653B, 583610B, 610524B, 694578B, 716394B, 729930B, 748221B | HDPE bottles: 35 mL | 9/14/2021
RTI International | 061338A, 093079A, 093984A, 103102A, 112885A, 137651A, 167643A, 170617A, 178820A, 207911A, 284122A, 314088A, 316008A, 331130A, 336962A, 384338A, 395142A, 405441A, 416604A, 419130A, 439941A, 496655A, 514774A, 531054A, 578870A, 584698A, 631879A, 637438A | HDPE bottles: 35 mL | 9/14/2021
RTI International | 067148B, 084154B, 123136B, 171952B, 189776B, 198985B, 240779B, 296047B, 331408B, 346926B, 349043B, 377267B, 392493B, 415562B, 446444B, 455140B, 566660B, 572790B, 598654B, 599399B, 602105B, 607520B, 616169B, 629812B, 708589B, 740894B, 749926B, 752010B | HDPE bottles: 35 mL | 9/14/2021
RTI International | 067219A, 075336A, 115543A, 124843A, 148815A, 176294A, 248673A, 257985A, 274411A, 342381A, 356595A, 370689A, 396961A, 407712A, 442211A, 446296A, 446876A, 504924A, 548982A, 554793A, 602352A, 667819A, 682091A, 698888A, 714376A, 717453A, 718201A, 724474A | HDPE bottles: 35 mL | 9/14/2021
RTI International | 067530B, 112579B, 117617B, 119138B, 158200B, 158348B, 177597B, 211999B, 216463B, 220805B, 267092B, 320209B, 341040B, 342282B, 366176B, 406725B, 411349B, 480111B, 488710B, 513640B, 526772B, 530577B, 589238B, 611386B, 648800B, 662283B, 670365B, 700479B | HDPE bottles: 35 mL | 9/14/2021
RTI International | 083375B, 093920B, 101122B, 127621B, 146680B, 173394B, 181774B, 256751B, 277951B, 342274B, 382283B, 407571B, 414872B, 445466B, 503903B, 509664B, 549767B, 559437B, 567878B, 578803B, 602058B, 631496B, 674419B, 715980B, 775937B, 790278B, 796515B, 814400B | HDPE bottles: 35 mL | 9/14/2021
RTI International | 086234A, 134886A, 234646A, 562489A, 661831A, 674781A | HDPE bottles: 35 mL | 9/14/2021
RTI International | 098169A, 161057A, 173427A, 241526A, 264674A, 374229A, 410011A, 411043A, 414388A, 419030A, 455995A, 456354A, 467926A, 481812A, 484158A, 589107A, 605603A, 610712A, 627981A, 639089A, 644638A, 650014A, 651506A, 651777A, 671809A, 687028A, 721256A, 773684A | HDPE bottles: 35 mL | 9/14/2021
RTI International | 119100A, 279532A, 439085A, 466615A, 563819A, 981418A | HDPE bottles: 35 mL | 9/14/2021
RTI International | 145074A, 163970A, 176045A, 215129A, 225392A, 235273A, 248657A, 271067A, 308576A, 311993A, 321160A, 363272A, 378254A, 382246A, 451805A, 470383A, 500607A, 534405A, 551494A, 578227A, 591070A, 742302A, 743822A, 750765A, 765628A, 833310A, 837447A, 916631A | HDPE bottles: 35 mL | 9/14/2021
RTI International | 197765A, 428493A, 455083A, 790360A, 792562A, 961635A | HDPE bottles: 35 mL | 9/14/2021
RTI International | 256338A, 262674A, 270370A, 296287A, 299248A, 327468A, 347682A, 395285A, 403259A, 441123A, 471182A, 546403A, 590341A, 596455A, 645571A, 653977A, 656203A, 706251A, 706784A, 749478A | HDPE bottles: 35 mL | 9/14/2021
RTI International | 361580A, 438138A, 634629A, 690620A, 760765A, 863003A | HDPE bottles: 35 mL | 9/14/2021

The Deputy Assistant Administrator has found that each of the compounds, mixtures, and preparations described in Chart II below is not consistent with the criteria stated in 21 U.S.C. 811(g)(3)(B) and in 21 CFR 1308.23. Accordingly, the Deputy Assistant Administrator has determined that the chemical preparations or mixtures generally described in Chart II below and specifically described in the application materials received by DEA, are not exempt from application of any part of the CSA or from application of any part of the CFR, with regard to the requested exemption pursuant to 21 CFR 1308.23, as of the date that was provided in the determination letters to the individual requesters.

Chart II
Supplier | Product name | Form | Application date
Absolute Standards, Inc | Chloral hydrate, 5000 ug/ml, in MTBE | Glass ampoule: 1 ml | 10/21/2021
Cayman Chemical Company | Custom Phytocannabinoid Mixture (CRM)—Adams Independent Testing | Glass ampule: 1 mL | 10/7/2021
LGC GmbH | ((-)-delta9-THC (Dronabinol)) for 1.0 mg/mL in Methanol | Glass Vial: 1 mL | 12/7/2021
LGC GmbH | Fentanyl 1.0 mg/ml in methanol | Glass vial: 1 mL | 12/10/2021
LGC GmbH | LSD (Lysergic Acid Diethylamide) 1.0 mg/ml in acetonitrile | Glass vial: 1 mL | 12/10/2021
Lipomed Inc | Iso LSD 0.1 mg/1 mL acetonitrile | Amber ampule: 1 mL | 7/23/2021
Lipomed Inc | Iso LSD 1 mg/1 mL acetonitrile | Amber ampule: 1 mL | 7/23/2021
Lipomed, Inc | Iso LSD 0.1 mg/1 mL acetonitrile | Amber ampule: 1 mL | 7/23/2021
Lipomed, Inc | Iso LSD 1 mg/1 mL acetonitrile | Amber ampule: 1 mL | 7/23/2021
Purisys, LLC | Tetrahydrocannabinolic acid in dimethylsulfoxide (10 mg/mL) | Sealed ampule: 1 mL | 8/30/2021
Purisys, LLC | Tetrahydrocannabinolic acid in dimethylsulfoxide (5 mg/mL) | Sealed ampule: 1 mL | 8/30/2021
Purisys, LLC | Δ9-Tetrahydrocannabinol in dimethylsulfoxide (10 mg/mL) | Sealed ampule: 1 mL | 8/30/2021
Purisys, LLC | Δ9-Tetrahydrocannabinol in dimethylsulfoxide (5 mg/mL) | Sealed ampule: 1 mL | 8/30/2021
Siemens Healthcare Diagnostics Inc | IMMULITE Estradiol Diluent | Plastic container: 0.5L-3L | 10/11/2021

Opportunity for Comment

Pursuant to 21 CFR 1308.23(e), any interested person may submit written comments on or objections to any chemical preparation in this order that has been approved or denied as exempt. If any comments or objections raise significant issues regarding any finding of fact or conclusion of law upon which this order is based, the Deputy Assistant Administrator will immediately suspend the effectiveness of any applicable part of this order until he may reconsider the application in light of the comments and objections filed. Thereafter, the Deputy Assistant Administrator shall reinstate, revoke, or amend his original order as he determines appropriate.

Approved Exempt Chemical Preparations Are Posted on the DEA's Website

A list of all current exemptions, including those listed in this order, is available on the DEA's website at http://www.DEAdiversion.usdoj.gov/schedules/exempt/exempt_chemlist.pdf. The dates of applications of all current exemptions are posted for easy reference.

* * * * *

Thomas W. Prevoznik,
Deputy Assistant Administrator.

[FR Doc. 2022-08300 Filed 4-18-22; 8:45 am]

BILLING CODE 4410-09-P